DEPARTMENT OF EDUCATION

[Docket No.: ED-2025-SCC-0015]

Income Driven Repayment Plan Request for the William D. Ford Federal Direct Loans and Federal Family Education Loan Programs; Correction

AGENCY: Federal Student Aid (FSA), Department of Education (ED).

ACTION: Correction notice.

On June 30, 2025, the 30-day comment period published in the Federal Register (FRN Vol. 90, No. 123, pages 27857-8) for the proposed revised information collection, Income Driven Repayment Plan Request for the William D. Ford Federal Direct Loans and Federal Family Education Loan Programs, with an end date of July 30, 2025. An error was made to the Docket No.: ED-2025-SCC-0015 posting. The 30 Day FRN references the emergency approval and 60 Day comment period. The emergency was already approved on March 24, 2025, and the 60 Day comment period ended on June 9, 2025.

The Office of the Chief Data Officer, Office of Planning, Evaluation and Policy Development, hereby issues a correction notice as required by the Paperwork Reduction Act of 1995.

Dated: July 1, 2025.
Brian Fu,
Program and Management Analyst, Office of the Chief Data Officer, Office of Planning, Evaluation and Policy Development.

[FR Doc. 2025-12525 Filed 7-3-25; 8:45 am]

BILLING CODE 4000-01-P